NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 22, 2008. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

Permit Application No. 2009-018

The applications received are as follows:

1. Applicant: Mahlon C. Kennicutt, II, Director, Sustainable Development, Team Leader, Sustainable Coastal Margins Program, Texas A&M University, 1112, College Station, TX 77843-1112.

Activity for Which Permit Is Requested

Enter Antarctic Specially Protected Areas. The applicant plans to enter ASPA 116—New College Valley, Cape Bird, ASPA 122—Arrival Heights, Ross Island, and ASPA 158—Hut Point, Ross Island. These sites are specifically targeted because of the nature of their geology, climatic influences and topography. The applicant plans on sampling one site as a reference control area for the study of the temporal and spatial scales of various types of disturbances in and around McMurdo Station. In addition, a reconnaissance flight from Cape Roberts to Cape Chocolate to identify an additional reference control site will be made. The other sites, Arrival Heights (ASPA 122) and Hut Point (ASPA 158) have been sampled in past field seasons and are slated to be sampled as part of the ongoing environmental monitoring program.

Location

ASPA 116—New College Valley, Cape Bird, ASPA 122—Arrival Heights, Ross Island, and ASPA 158—Hut Point, Ross Island.

Dates

November 17, 2008 to December 31, 2008.

Nadene G. Kennedy,
Permit Officer, Office of Polar Programs.

[FR Doc. E8-19464 Filed 8-21-08; 8:45 am]

BILLING CODE 7555-01-P